DEPARTMENT OF COMMERCE

International Trade Administration

[A-552-803, A-570-928, A-791-821]

Uncovered Innerspring Units From the People's Republic of China, the Socialist Republic of Vietnam, and South Africa: Final Results of the Expedited Third Sunset Reviews of the Antidumping Duty Orders

AGENCY: Enforcement and Compliance, International Trade Administration, Department of Commerce.

SUMMARY: As a result of these expedited sunset reviews, the U.S. Department of Commerce (Commerce) finds that revocation of the antidumping duty (AD) orders on uncovered innerspring units (innersprings) from the People's Republic of China (China), the Socialist Republic of Vietnam (Vietnam), and South Africa would be likely to lead to the continuation or recurrence of dumping at the levels indicated in the “Final Results of Sunset Reviews” section of this notice.

DATES: Applicable January 7, 2025.

FOR FURTHER INFORMATION CONTACT: Christopher Maciuba, AD/CVD Operations, Office V, Enforcement and Compliance, International Trade Administration, U.S. Department of Commerce, 1401 Constitution Avenue NW, Washington, DC 20230; telephone: (202) 482-0413.

SUPPLEMENTARY INFORMATION:

Background

On December 11, 2008, Commerce published the AD orders on innersprings from South Africa and Vietnam and, on February 19, 2009, Commerce published the AD order on innersprings from China in the Federal Register.¹ On September 3, 2024, Commerce published the notice of initiation of the third sunset reviews of the Orders, pursuant to section 751(c) of the Tariff Act of 1930, as amended (the Act).²

¹ See Antidumping Duty Order: Uncovered Innerspring Units from South Africa, 73 FR 75390 (December 11, 2008); Antidumping Duty Order: Uncovered Innerspring Units from the Socialist Republic of Vietnam, 73 FR 75391 (December 11, 2008); and Uncovered Innerspring Units from the People's Republic of China: Notice of Antidumping Duty Order, 74 FR 7661 (February 19, 2009) (collectively, the Orders).

² See Initiation of Five-Year (Sunset) Reviews, 89 FR 71252 (September 3, 2024).

On September 10, 2024, Commerce received notices of intent to participate in these sunset reviews from Leggett and Platt Incorporated (Leggett) within the deadline specified in 19 CFR 351.218(d)(1)(i).³ Leggett claimed domestic interested party status under section 771(9)(C) of the Act as a producer of the domestic like product in the United States. On October 3, 2024, Commerce received adequate substantive responses from Leggett within the 30-day deadline specified in 19 CFR 351.218(d)(3)(i).⁴ We received no substantive responses from respondent interested parties.

³ See Leggett's Letters, “Uncovered Innersprings from China: Notice of Intent to Participate,” dated September 10, 2024; “Uncovered Innersprings from South Africa: Notice of Intent to Participate,” dated September 10, 2024; and “Uncovered Innersprings from Vietnam: Notice of Intent to Participate,” dated September 10, 2024.

⁴ See Leggett's Letters, “Uncovered Innersprings from Vietnam: Substantive Response,” dated October 3, 2024; “Uncovered Innersprings from China: Substantive Response,” dated October 3, 2024; and “Uncovered Innersprings from South Africa: Substantive Response,” dated October 3, 2024.

On October 31, 2024, Commerce notified the U.S. International Trade Commission that it did not receive substantive responses from respondent interested parties.⁵ Pursuant to section 751(c)(3)(B) of the Act and 19 CFR 351.218(e)(1)(ii)(C)(2), Commerce is conducting expedited (120-day) sunset reviews of the Orders.

⁵ See Commerce's Letter, “Sunset Reviews Initiated on September 3, 2024,” dated October 31, 2024.

Scope of the Orders

The products covered by the Orders are innersprings from China, South Africa, and Vietnam. For a full description of the scope of the Orders, see the Issues and Decision Memorandum.⁶

⁶ See Memorandum, “Issues and Decision Memorandum for the Final Results of the Expedited Third Sunset Reviews of the Antidumping Duty Orders on Uncovered Innerspring Units from the People's Republic of China, the Socialist Republic of Vietnam, and South Africa,” dated concurrently with, and hereby adopted by, this notice (Issues and Decision Memorandum) at 2-3.

Analysis of Comments Received

A complete discussion of all issues raised in these sunset reviews is contained in the Issues and Decision Memorandum.⁷ A list of topics discussed in the Issues and Decision Memorandum is included as an appendix to this notice. The Issues and Decision Memorandum is a public document and is on file electronically via Enforcement and Compliance's Antidumping and Countervailing Duty Centralized Electronic Service System (ACCESS). ACCESS is available to registered users at http://access.trade.gov. In addition, a complete version of the Issues and Decision Memorandum can be directly accessed at http://access.trade.gov/public/FRNoticesListLayout.aspx.

⁷ Id.

Final Results of Sunset Reviews

Pursuant to sections 751(c)(1), and 752(c)(1) and (3) of the Act, Commerce determines that revocation of the Orders would likely lead to the continuation or recurrence of dumping and that the magnitude of the dumping margins likely to prevail would be weighted-average dumping margins up to 234.51 percent for China, 121.39 percent for South Africa, and 116.31 percent for Vietnam.⁸

⁸ Id. at 12.

Administrative Protective Order (APO)

This notice serves as the only reminder to interested parties subject to an APO of their responsibility concerning the return/destruction or conversion to judicial protective order of proprietary information disclosed under APO in accordance with 19 CFR 351.305. Timely notification of the return or destruction of APO materials or conversion to judicial protective order is hereby requested. Failure to comply with the regulations and terms of an APO is a violation which is subject to sanction.

Notification to Interested Parties

We are issuing and publishing these final results and notice in accordance with sections 751(c), 752(c), and 777(i)(1) of the Act, and 19 CFR 351.218(e)(1)(ii)(C)(2) and 351.221(c)(5)(ii).

Dated: December 31, 2024.
Abdelali Elouaradia,
Deputy Assistant Secretary for Enforcement and Compliance.

Appendix

List of Topics Discussed in the Issues and Decision Memorandum

I. Summary

II. Background

III. Scope of the Orders

IV. History of the Orders

V. Legal Framework

VI. Discussion of the Issues

1. Likelihood of Continuation or Recurrence of Dumping

2. Magnitude of the Margins of Dumping Likely to Prevail

VII. Final Results of Sunset Reviews

VIII. Recommendation

[FR Doc. 2025-00016 Filed 1-6-25; 8:45 am]

BILLING CODE 3510-DS-P